DEPARTMENT OF AGRICULTURE

Forest Service

Media Outlets for Publication of Legal and Action Notices in the Southern Region

AGENCY: Forest Service, USDA.

ACTION: Notice.

SUMMARY: This notice lists all newspapers that will be used by the Ranger Districts, Grasslands, Forests and the Regional Office of the Southern Region to publish notices. The intended effect of this action is to inform members of the public which newspapers will be used by the Forest Service to publish legal notices regarding proposed actions, notices of decisions and notices indicating opportunities to file objections.

DATES: Use of these newspapers for purposes of publishing legal notice of decisions and notices of the opportunity to object under 36 CFR 218 and 36 CFR 219 shall begin the first day after the date of this publication.

FOR FURTHER INFORMATION CONTACT: Shannon Kelardy, Administrative Review Coordinator, Southern Region, Planning, 1720 Peachtree Road NW, Atlanta, Georgia 30309, Phone: (404) 347-2719.

SUPPLEMENTARY INFORMATION: Responsible Officials in the Southern Region will give notice of the opportunity to object to a proposed project under 36 CFR part 218, or developing, amending or revising land management plans under 36 CFR 219 in the following newspapers which are listed by Forest Service administrative unit. The timeframe for filing a comment, appeal or an objection shall be based on the date of publication of the notice of the proposed action in the newspaper of record for projects subject to 36 CFR 218 or 36 CFR 219. Where more than one newspaper is listed for any unit, the first newspaper listed is the newspaper of record that will be utilized for publishing the legal notice of decisions and calculating timeframes. Secondary newspapers listed for a particular unit are those newspapers the Deciding Officer/Responsible Official expects to use for purposes of providing additional notice. The following newspapers will be used to provide notice:

Southern Region

Regional Forester Decisions

Affecting National Forest System lands in more than one administrative unit of the 15 in the Southern Region, Atlanta Journal—Constitution, published daily in Atlanta, Georgia. Affecting National Forest System lands in only one administrative unit or only one Ranger District will appear in the newspaper of record elected by the National Forest, National Grassland, National Recreation Area, or Ranger District as listed below.

National Forests in Alabama, Alabama

Forest Supervisor Decisions

Affecting National Forest System lands in more than one Ranger District of the 6 in the National Forests in Alabama, Montgomery Advertiser, published daily in Montgomery, Alabama. Affecting National Forest System lands in only one Ranger District will appear in the newspaper of record elected by the Ranger District as listed below.

District Ranger Decisions

Bankhead Ranger District: Northwest Alabamian, published bi-weekly (Wednesdays & Saturdays) in Haleyville, Alabama.

Conecuh Ranger District: The Andalusia Star News, published daily (Tuesday through Saturday) in Andalusia, Alabama.

Oakmulgee Ranger District: The Tuscaloosa News, published daily in Tuscaloosa, Alabama.

Shoal Creek Ranger District: The Anniston Star, published daily in Anniston, Alabama.

Talladega Division: The Anniston Star, published daily in Anniston, Alabama.

Talladega Ranger District: The Daily Home, published daily in Talladega, Alabama.

Tuskegee Ranger District: Tuskegee News, published weekly (Thursday) in Tuskegee, Alabama.

Chattahoochee-Oconee National Forest, Georgia

Forest Supervisor Decisions

The Times, published daily in Gainesville, Georgia.

District Ranger Decisions

Blue Ridge Ranger District: The News Observer (newspaper of record) published weekly (Wednesdays) in Blue Ridge, Georgia.

North Georgia News, (newspaper of record) published weekly (Wednesdays) in Blairsville, Georgia.

Conasauga Ranger District: Daily Citizen, published daily in Dalton, Georgia.

Chattooga River Ranger District: The Northeast Georgian, (newspaper of record) published bi-weekly (Wednesdays & Fridays) in Cornelia, Georgia.

Clayton Tribune, (newspaper of record) published weekly (Thursdays) in Clayton, Georgia.

Oconee Ranger District: Eatonton Messenger, published weekly (Thursdays) in Eatonton, Georgia.

Cherokee National Forest, Tennessee

Forest Supervisor Decisions

Knoxville News Sentinel, published daily in Knoxville, Tennessee.

District Ranger Decisions

Unaka Ranger District: Greeneville Sun, published daily (except Sunday) in Greeneville, Tennessee.

Ocoee-Hiwassee Ranger District: Polk County News, published Thursday only, Benton, Tennessee.

Tellico Ranger District: Monroe County Advocate & Democrat, published tri-weekly (Wednesdays, Fridays, and Sundays) in Sweetwater, Tennessee.

Watauga Ranger District: Johnson City Press, published daily in Johnson City, Tennessee.

Daniel Boone National Forest, Kentucky

Forest Supervisor Decisions

Lexington Herald-Leader, published daily in Lexington, Kentucky.

District Ranger Decisions

Cumberland Ranger District: The Morehead News, published bi-weekly (Tuesdays and Fridays) in Morehead, Kentucky.

London Ranger District: The Sentinel-Echo, published tri-weekly (Mondays, Wednesdays, and Fridays) in London, Kentucky.

Redbird Ranger District: Manchester Enterprise, published weekly (Thursdays) in Manchester, Kentucky.

Stearns Ranger District: McCreary County Voice, published weekly (Thursdays) in Whitley City, Kentucky.

El Yunque National Forest, Puerto Rico

Forest Supervisor Decisions

El Nuevo Dia, published daily in Spanish in San Juan, Puerto Rico.

San Juan Daily Star, published daily in English in San Juan, Puerto Rico.

National Forests in Florida, Florida

Forest Supervisor Decisions

Affecting National Forest System lands in more than one Ranger District in the National Forests in Florida or Florida National Scenic Trail land outside Ranger Districts, The Tallahassee Democrat, published daily in Tallahassee, FL. Affecting National Forest System lands in only one Ranger District will appear in the newspaper of record elected by the Ranger District as listed below.

District Ranger Decisions

Apalachicola Ranger District: Calhoun-Liberty Journal, published weekly (Wednesdays) in Bristol, Florida.

Lake George Ranger District: The Ocala Star Banner, published daily in Ocala, Florida.

Osceola Ranger District: The Lake City Reporter, published daily (except Sunday) in Lake City, Florida.

Seminole Ranger District: The Daily Commercial, published daily in Leesburg, Florida.

Wakulla Ranger District: The Tallahassee Democrat, published daily in Tallahassee, Florida.

Francis Marion & Sumter National Forests, South Carolina

Forest Supervisor Decisions

The State, published daily in Columbia, South Carolina.

District Ranger Decisions

Andrew Pickens Ranger District: The Daily Journal, published daily (Tuesday through Saturday) in Seneca, South Carolina.

Enoree Ranger District: Newberry Observer, published tri-weekly (Monday, Wednesday, and Friday) in Newberry, South Carolina.

Long Cane Ranger District: Index-Journal, published daily in Greenwood, South Carolina.

Francis Marion Ranger District: Post and Courier, published daily in Charleston, South Carolina.

George Washington and Jefferson National Forests, Virginia and West Virginia

Forest Supervisor Decisions

Roanoke Times, published daily in Roanoke, Virginia.

District Ranger Decisions

Clinch Ranger District: Coalfield Progress, published bi-weekly (Tuesdays and Fridays) in Norton, Virginia.

North River Ranger District: Daily News Record, published daily (except Sunday) in Harrisonburg, Virginia.

Glenwood-Pedlar Ranger District: Roanoke Times, published daily in Roanoke, Virginia.

James River Ranger District: Virginian Review, published daily (except Sunday) in Covington, Virginia.

Lee Ranger District: Shenandoah Valley Herald, published weekly (Wednesday) in Woodstock, Virginia.

Mount Rogers National Recreation Area: Bristol Herald Courier, published daily in Bristol, Virginia.

Eastern Divide Ranger District: Roanoke Times, published daily in Roanoke, Virginia.

Warm Springs Ranger District: The Recorder, published weekly (Thursday) in Monterey, Virginia.

Kisatchie National Forest, Louisiana

Forest Supervisor Decisions

The Town Talk, published tri-weekly (Sundays, Wednesdays, and Fridays) in Alexandria, Louisiana.

District Ranger Decisions

Calcasieu Ranger District: The Town Talk, (newspaper of record) published tri-weekly (Sundays, Wednesdays, and Fridays) in Alexandria, Louisiana.

The Leesville Daily Leader, (secondary) published tri-weekly (Sundays, Wednesdays, and Fridays) in Leesville, Louisiana.

Caney Ranger District: Minden Press Herald, (newspaper of record) published daily in Minden, Louisiana.

Homer Guardian Journal, (secondary) published weekly (Wednesdays) in Homer, Louisiana.

Catahoula Ranger District: The Town Talk, published tri-weekly (Sundays, Wednesdays, and Fridays) in Alexandria, Louisiana.

Kisatchie Ranger District: Natchitoches Times, published tri-weekly (Wednesdays, Satursdays, and Sundays) in Natchitoches, Louisiana.

Winn Ranger District: Winn Parish Enterprise, published weekly (Wednesdays) in Winnfield, Louisiana.

Land Between The Lakes National Recreation Area, Kentucky and Tennessee

Area Supervisor Decisions

The Paducah Sun, published daily in Paducah, Kentucky.

National Forests in Mississippi, Mississippi

Forest Supervisor Decisions

Clarion-Ledger, published daily in Jackson, Mississippi.

District Ranger Decisions

Bienville Ranger District: Clarion-Ledger, published daily in Jackson, Mississippi.

Chickasawhay Ranger District: Clarion-Ledger, published daily in Jackson, Mississippi.

Delta Ranger District: Clarion-Ledger, published daily in Jackson, Mississippi.

De Soto Ranger District: Clarion Ledger, published daily in Jackson, Mississippi.

Holly Springs Ranger District: Clarion-Ledger, published daily in Jackson, Mississippi.

Homochitto Ranger District: Clarion-Ledger, published daily in Jackson, Mississippi.

Tombigbee Ranger District: Clarion-Ledger, published daily in Jackson, Mississippi.

National Forests in North Carolina, North Carolina

Forest Supervisor Decisions

The Asheville Citizen-Times, published daily, Wednesday thru Sunday, (except Monday and Tuesday), in Asheville, North Carolina.

District Ranger Decisions

Appalachian Ranger District: The Asheville Citizen-Times, published Wednesday thru Sunday, in Asheville, North Carolina.

Cheoah Ranger District: Graham Star, published weekly (Thursdays) in Robbinsville, North Carolina.

Croatan Ranger District: The Sun Journal, published daily in New Bern, North Carolina.

Grandfather Ranger District: McDowell News, published daily in Marion, North Carolina.

Nantahala Ranger District: The Franklin Press, published bi-weekly (Tuesdays and Fridays) in Franklin, North Carolina.

Pisgah Ranger District: The Asheville Citizen-Times, published daily (Wednesday thru Sunday, except Monday and Tuesday) in Asheville, North Carolina.

Tusquitee Ranger District: Cherokee Scout, published weekly (Wednesdays) in Murphy, North Carolina.

Uwharrie Ranger District: Montgomery Herald, published weekly (Wednesdays) in Troy, North Carolina.

Ouachita National Forest, Arkansas and Oklahoma

Forest Supervisor Decisions

Arkansas Democrat-Gazette, published daily in Little Rock, Arkansas.

District Ranger Decisions

Caddo-Womble Ranger District: Arkansas Democrat-Gazette, published daily in Little Rock, Arkansas.

Jessieville-Winona-Fourche Ranger District: Arkansas Democrat-Gazette, published daily in Little Rock, Arkansas.

Mena-Oden Ranger District: Arkansas Democrat-Gazette, published daily in Little Rock, Arkansas.

Oklahoma Ranger District (Choctaw; Kiamichi; and Tiak): McCurtain Daily Gazette, published daily in Idabel, Oklahoma.

Poteau-Cold Springs Ranger District: Arkansas Democrat-Gazette, published daily in Little Rock, Arkansas.

Ozark-St. Francis National Forests, Arkansas

Forest Supervisor Decisions

The Courier, published daily (Tuesday through Sunday) in Russellville, Arkansas.

District Ranger Decisions

Bayou Ranger District: The Courier, published daily (Tuesday through Sunday) in Russellville, Arkansas.

Boston Mountain Ranger District: Southwest Times Record, published daily in Fort Smith, Arkansas.

Buffalo Ranger District: The Courier, published daily (Tuesday through Sunday) in Russellville, Arkansas.

Magazine Ranger District: Southwest Times Record, published daily in Fort Smith, Arkansas.

Pleasant Hill Ranger District: Johnson County Graphic, published weekly (Wednesday) in Clarksville, Arkansas.

St. Francis National Forest: The Daily World, published bi-weekly (Tuesdays and Fridays) in Helena, Arkansas.

Sylamore Ranger District: Stone County Leader, published weekly (Wednesday) in Mountain View, Arkansas.

National Forests and Grasslands in Texas, Texas

Forest Supervisor Decisions

The Lufkin Daily News, published daily in Lufkin, Texas.

District Ranger Decisions

Angelina National Forest: The Lufkin Daily News, published daily in Lufkin, Texas.

Caddo & LBJ National Grasslands: Denton Record-Chronicle, published daily in Denton, Texas.

Davy Crockett National Forest: The Lufkin Daily News, published daily in Lufkin, Texas.

Sabine National Forest: The Lufkin Daily News, published daily in Lufkin, Texas.

Sam Houston National Forest: The Courier, published daily in Conroe, Texas.

Dated: June 6, 2019.
Frank R. Beum,
Acting Associate Deputy Chief, National Forest System.

[FR Doc. 2019-13452 Filed 6-24-19; 8:45 am]

BILLING CODE 3411-15-P